DEPARTMENT OF TRANSPORTATION

Coast Guard

[USCG-2000-7820]

Chemical Transportation Advisory Committee

AGENCY: Coast Guard, DOT.

ACTION: Notice of meetings.

SUMMARY: The Chemical Transportation Advisory Committee (CTAC) and its Subcommittees will meet to discuss various issues relating to the marine transportation of hazardous materials in bulk. All meetings will be open to the public.

DATES: CTAC will meet on Wednesday, September 13, 2000, from 9:00 a.m. to 3:30 p.m. The Subcommittee on Prevention Through People (PTP) will meet on Tuesday, September 12, 2000, from 8 a.m. to 4 p.m. The Subcommittee on Emergency Response will meet on Tuesday, September 12, 2000, from 1 p.m. to 4 p.m. The Subcommittee on the Revalidation of 46 CFR Part 151 Recommendations will meet on Tuesday, September 12, 2000, from 8 a.m. to 4 p.m. These meetings may close early if all business is finished. Requests to make oral presentations should reach the Coast Guard on or before August 31, 2000. Requests to have a copy of written material distributed to each member of the committee or subcommittee should reach the Coast Guard on or before September 5, 2000.

ADDRESSES: CTAC will meet at the DoubleTree Hotel, 300 Canal Street, New Orleans, Louisiana. The Subcommittees will meet at the same address. Send written material and requests to make oral presentations to Commander Robert F. Corbin, Commandant (G-MSO-3), U.S. Coast Guard Headquarters, 2100 Second Street SW., Washington, DC 20593-0001. This notice is available on the Internet at http://dms.dot.gov.

FOR FURTHER INFORMATION CONTACT: For questions on this notice, contact Commander Robert F. Corbin, Executive Director of CTAC, or Ms. Sara S. Ju, Assistant to the Executive Director, telephone 202-267-1217, fax 202-267-4570.

SUPPLEMENTARY INFORMATION: Notice of these meetings is given under the Federal Advisory Committee Act, 5 U.S.C. App. 2.

Agendas of Meetings

Chemical Transportation Advisory Committee (CTAC). The agenda includes the following:

(1) Introduction and swearing-in of the new members.

(2) Progress reports from the PTP and Emergency Response Subcommittees.

(3) Progress (Final) report from the Subcommittee on the Revalidation of 46 CFR Part 151.

(4) Presentation from Marine Safety Office New Orleans, LA on local port issues.

(5) Presentation on the Tankship Panam Perla Sulfuric Acid Incident; lessons learned.

(6) Update on International Maritime Organization (IMO) activities for the Subcommittee on Bulk Liquids & Gases.

Subcommittee on PTP. The agenda includes the following:

(1) Discussion of Crew Alertness Campaign task statement.

(2) Review of materials on Coast Guard Crew Alertness Campaign.

(3) Discussion to identify stakeholders and appropriate means to disseminate information for future awareness on Crew Alertness in the marine chemical transportation industry.

Subcommittee on Emergency Response. The agenda includes the following:

(1) Continuation of work on Subcommittee Task Statement to identify standards, guidelines, and programs involved with hazardous material emergency response.

Subcommittee on Revalidation of 46 CFR Part 151 Recommendations. The agenda includes the following:

(1) Agenda will be based on the results of the Subcommittee's meetings scheduled for August 23 and 24, 2000.

Procedural

All meetings are open to the public. Please note that the meetings may close early if all business is finished. At the Chairs' discretion, members of the public may make oral presentations during the meetings. If you would like to make an oral presentation at a meeting, please notify the Executive Director no later than August 31, 2000. Written material for distribution at a meeting should reach the Coast Guard no later than September 5, 2000. If you would like a copy of your material distributed to each member of the committee or subcommittee in advance of a meeting, please submit 25 copies to the Executive Director no later than September 5, 2000.

Information on Services for Individuals with Disabilities

For information on facilities or services for individuals with disabilities or to request special assistance at the meetings, contact the Executive Director as soon as possible.

Dated: August 16, 2000.
Joseph J. Angelo,
Director of Standards, Marine Safety and Environmental Protection.

[FR Doc. 00-21566 Filed 8-23-00; 8:45 am]

BILLING CODE 4910-15-P